DEPARTMENT OF LABOR

Employment and Training Administration

[TA-W-54,445, TA-W-54,445A]

Scholle Corporation, Scholle Custom Packaging, Manistee, MI; Including an Employee of Scholle Corporation, Scholle Custom Packaging, Manistee, MI, Located in Marietta, GA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance on May 26, 2004, applicable to workers of Scholle Corporation, Scholle Custom Packaging, Manistee, Michigan. The notice was published in the Federal Register on June 17, 2004 (69 FR 33942).

At the request of a company official, the Department reviewed the certification for workers of the subject firm. New information shows that a worker separation occurred involving an employee of the Scholle Corporation, Scholle Custom Packaging, Manistee, Michigan located in Marietta, Georgia. Mr. Scott Fidler provided sales and customer support services for the manufacture of dry liners, bulk bags and liquid IBC produced by the subject company.

Based on these findings, the Department is amending this certification to include an employee of Scholle Corporation, Scholle Custom Packaging, Manistee, Michigan located in Marietta, Georgia.

The intent of the Department's certification is to include all workers of Scholle Corporation, Scholle Custom Packaging, Manistee, Michigan who were adversely affected by increased customer imports.

The amended notice applicable to TA-W-54,445 is hereby issued as follows:

All workers of Scholle Corporation, Scholle Custom Packaging, Manistee, Michigan (TA-W-54,445) and including an employee of Scholle Corporation, Scholle Custom Packaging, Manistee, Michigan, located in Marietta, Georgia (TA-W-54,445A), who became totally or partially separated from employment on or after March 5, 2003, through May 26, 2006, are eligible to apply for adjustment assistance under Section 223 of the Trade Act of 1974, and are also eligible to apply for alternative trade adjustment assistance under Section 246 of the Trade Act of 1974.

Signed at Washington, DC, this 7th day of February 2006.
Richard Church,
Certifying Officer, Division of Trade Adjustment Assistance.

[FR Doc. E6-2487 Filed 2-21-06; 8:45 am]

BILLING CODE 4510-30-P